Proclamation 8184 of October 1, 2007

Child Health Day, 2007

By the President of the United States of America

A Proclamation

Our Nation is committed to the health and well-being of our youth. On Child Health Day, we reaffirm our commitment to helping children develop good nutrition habits and active lifestyles, so that they can grow into healthy and productive adults.

Children today face many risks, such as alcohol and drug use, obesity, smoking, and other dangers. As parents and role models to America's youth, we have a responsibility to teach them about the importance of healthy behavior, daily exercise, and good nutrition.

My Administration supports programs that give parents, mentors, and teachers the resources they need to help and encourage children to maintain an active and healthy way of life. The National Youth Anti-Drug Media Campaign is working with the Partnership for a Drug-Free America to educate our young people about resisting the pressure to use drugs. Additionally, the Helping America's Youth initiative, led by First Lady Laura Bush, encourages our Nation's children to make healthy choices that lead to a better future. The HealthierUS initiative offers ways to improve lives, prevent and reduce the costs of disease, and promote community health and wellness. These nationwide initiatives provide the tools and resources to help children learn the importance of healthy living.

With hard work and dedication, parents can encourage good nutrition and healthy lifestyles so children can make the right choices, avoid risky behavior, and realize their full potential.

On this day it is also appropriate to recognize the important role the State Children's Health Insurance Program (SCHIP) has played in helping poor children stay healthy. To preserve that role and ensure that poor children can get the coverage they need, SCHIP should be reauthorized.

The Congress, by a joint resolution approved May 18, 1928, as amended (36 U.S.C. 105), has called for the designation of the first Monday in October as “Child Health Day” and has requested the President to issue a proclamation in observance of this day.

NOW, THEREFORE, I, GEORGE W. BUSH, President of the United States of America, do hereby proclaim Monday, October 1, 2007, as Child Health Day. I call upon families, schools, child health professionals, faith-based and community organizations, and State and local governments to reach out to our Nation's young people, encourage them to avoid dangerous behavior, and help them make the right choices and achieve their dreams.

IN WITNESS WHEREOF, I have hereunto set my hand this first day of October, in the year of our Lord two thousand seven, and of the Independence of the United States of America the two hundred and thirty-second.

[FR Doc. 07-4963

Filed 10-3-07; 9:09 am]

Billing code 3195-01-P